ENVIRONMENTAL PROTECTION AGENCY

[ER-FRL-6666-7]

Environmental Impacts Statements; Notice of Availability

Responsible Agency: Office of Federal Activities, General Information (202) 564-7167 or http://www.epa.gov/compliance/nepa/. Weekly receipt of Environmental Impact Statements Filed 08/15/2005 Through 08/19/2005. Pursuant to 40 CFR 1506.9.

EIS No. 20050343, Final EIS, BLM, ND, West Mine Area, Freedom Mine, Federal Coal Lease Application, Mercer County, ND, Wait Period Ends: 9/26/2005, Contact: Allen Ollila 701-227-7713.

EIS No. 20050344, Final EIS, NRC, WI, Generic—License Renewal for Point Beach Nuclear Plant, Units 1 and 2, Supplement 23 to NUREG-1437 (TAC Nos. MC2049 and MC2050), Lake Michigan, Manitowoc County, WI, Wait Period Ends: 09/26/2005, Contact: Stacey Imboden 301-415-2462.

EIS No. 20050345, Final Supplement, BLM, NV, Ruby Hill Mine Expansion—East Archimedes Project, Extension of Existing Open Pit and Expansion of Two Existing Waste Rock Disposal Areas, Plan-of-Operations Permit, Eureka County, NV, Wait Period Ends: 09/26/2005, Contact: Caleb Hiner 775-635-4052.

EIS No. 20050346, Draft EIS, DOA, NV,White Pine & Grant-Quinn Oil and Gas Leasing Project, Exploration and Development, Humboldt-Toiyabe National Forest, Ely Ranger District, White Pine, Nye and Lincoln Counties, NV, Comment Period Ends: 10/11/2005, Contact: Loretta Cartner 775-289-5120.

EIS No. 20050347, Draft EIS, DOE, ME, Bangor Hydro-Electric Northeast Reliability Interconnect, Construct, Connect, Operate and Maintain an Electric Transmission Line, Amend Presidential Permit (PP-89), DOE/EIS-0372, Hancock, Penobscot and Washington Counties, ME, Comment Period Ends: 10/11/2005, Contact: Dr. Jerry Pell 202-586-3362.

EIS No. 20050348, Draft EIS, NPS, WA, Ebey's Landing National Historical Reserve General Management Plan, Implementation, Town of Coupeville, Island County, WA, Comment Period Ends: 12/01/2005, Contact: Rob Harbour 360-678-6084.

EIS No. 20050349, Draft Supplement, COE, FL, Central and Southern Florida Project, Tamiami Trail Modifications, Modified Water Deliveries to Everglades National Park, Authorized Flow of Water from WCA-3B and the L-29 Canal North of the Tamiami Trail, Dade County, FL, Comment Period Ends: 10/11/2005, Contact: Barbara Cintron 904-232-1692.

EIS No. 20050350, Draft EIS, COE, CA, Encinitas/Solana Beach Shoreline Protection Project, To Protect Public Safety and Reduce Storm-Related Damages to Coastal Structures, Cities of Encinitas and Solana Beach, San Diego County, CA, Comment Period Ends: 10/11/2005, Contact: Shannon Dellaquila 213-452-3846.

Amended Notices

EIS No. 20050202, Draft EIS, CGD, 00, Programmatic—Vessel and Facility Response Plans for Oil: 2003 Removal Equipment Requirements and Alternative Technology Revisions, To Increase the Oil Removal Capability, U.S. Exclusive Economic Zone (EEZ), United States, Alaska, Guam, Puerto Rico and other U.S. Territories, Comment Period Ends: 9/6/2005, Contact: Brad McKitrick 202-267-0995.

Revision of FR Notice Published on 05/27/2005: Extending CEQ Comment Period Ending 8/1/2005 has been Extended to 9/6/2005.

EIS No. 20050329, Final EIS, NPS, ID, Craters of the Moon National Monument and Preserve, Update and Consolidate Management Plans, into One Comprehensive Plan, Snake River Plain, Butte, Blaine, Lincoln, and Minidoka Counties, ID, Wait Period Ends: 09/26/2005, Contact: Adrienne Anderson 303-987-6730.

Revision of FR Notice Published on 08/12/2005: CEQ Wait Period Ending 9/12/2005 has been Reestablished to 09/26/2005. Due to Incomplete Distribution of the FEIS at the time of Filing with USEPA under Section 1506.9 of the CEQ Regulations.

Dated: August 23, 2005.
Ken Mittelholtz,
Environmental Protection Specialist, Office of Federal Activities.

[FR Doc. 05-17036 Filed 8-25-05; 8:45 am]

BILLING CODE 6560-50-P